DEPARTMENT OF THE INTERIOR

National Park Service

Environmental Assessment for the West Potomac Park Levee Project Notice of Availability

AGENCY: Department of the Interior, National Park Service.

ACTION: Notice of availability.

SUMMARY: Pursuant to the Council of Environmental Quality regulations and National Park Service policy, this notice announces the availability of an Environmental Assessment (EA) for the improvements to the existing West Potomac Park Levee System which extends from 23rd Street, NW., to the grounds of the Washington Monument. The goal of this project is to improve the reliability of the existing levee in order to meet the current post-Hurricane Katrina standards for flood protection as required by the U.S. Army Corps of Engineers (USACE) and the Federal Emergency Management Agency (FEMA). The existing levee protects much of the monumental core and large portions of downtown Washington, DC.

DATES: There will be a 30-day public review period for comment on this document. Comments on the EA should be received no later than March 2, 2009.

ADDRESSES: Comments should be submitted either via the National Park Service Planning, Environment, and Public Comment (PEPC) Web site (http://parkplanning.nps.gov/projectHome.cfm?parkID=427&projectId=22260) or in writing to Mr. Doug Jacobs, Deputy Associate Regional Director for Lands, Resources and Planning, National Capital Region, National Park Service, 1100 Ohio Drive, SW., Washington, DC 20242. Copies of the EA can be downloaded from PEPC and will also be available for review at the National Capital Region Headquarters, 1100 Ohio Drive, SW., Washington, DC 20242

Before including your address, phone number, e-mail address, or other personal identifying information in your comment, you should be aware that your entire comment—including your personal identifying information—may be made publicly available at any time. While you can ask us in our comment to withhold your personal identifying information from public review, we cannot guarantee that we will be able to do so.

FOR FURTHER INFORMATION CONTACT: Mr. Doug Jacobs, Deputy Associate Regional Director for Lands, Resources, and Planning at (202) 619-7025.

SUPPLEMENTARY INFORMATION: Based upon new policies adopted since Hurricane Katrina, the USACE has deemed the 17th Street temporary barrier unreliable and decertified the levee. FEMA is responsible for issuing floodplain maps. FEMA proposes to treat the 17th Street closure as though it does not exist, putting a large portion of the monumental core and downtown Washington, DC, within the 100-year flood zone.

If the map is published as FEMA proposes, the buildings located within this zone would be required to buy additional flood insurance and/or make costly upgrades to comply with building standards for facilities within a 100-year floodplain. In addition, projects that are currently in development would need to be revised and could be delayed in order to comply with these building codes. At the request of the District of Columbia (District), FEMA has agreed to delay the final issuance of the new floodplain mapping until November 2009 to allow the District and other affected federal agencies time to design and implement an interim solution that will reliably stop the 100-year flood at 17th Street.

Due to the compressed deadline, the National Park Service has been working in collaboration with the District, USACE, the State Historic Preservation Officer, and the staffs of the National Capital Planning Commission and the Commission of Fine Arts to develop an appropriate range of alternatives. The EA evaluates five alternatives, all of which incorporate a permanent structure from Overlook Terrace in Constitution Gardens to the west side of 17th Street and another permanent structure on the east side of 17th Street which extends into the natural rise of the Washington Monument Grounds. The intervening space across 17th Street will have footings designed to receive a temporary post and panel closure system that would be deployed only during a major flood event. The permanent structures on either side of 17th Street will be a combination of earthen berms and concrete walls/embankments which will be clad in stone during a subsequent phase of the project. Alternative 1 has been identified as the preferred alternative and has been fully coordinated with the National Mall Plan which is currently under development by the National Park Service.

The alternative selected in the EA will be further developed into preliminary and final designs which will be subject to additional review by the National Park Service, the National Capital Planning Commission and the Commission of Fine Arts.

Dated: January 15, 2009.
Margaret O'Dell,
Regional Director, National Capital Region.

[FR Doc. E9-2049 Filed 1-29-09; 8:45 am]

BILLING CODE 4312-JK-P